DEPARTMENT OF LABOR

Employment and Training Administration

Notice of Determinations Regarding Eligibility To Apply for Worker Adjustment Assistance

In accordance with section 223 of the Trade Act of 1974, as amended, (19 U.S.C. 2273), the Department of Labor herein presents summaries of determinations regarding eligibility to apply for trade adjustment assistance for workers (TA-W) number and alternative trade adjustment assistance (ATAA) by (TA-W) number issued during the periods of September and October 2003.

In order for an affirmative determination to be made and a certification of eligibility to apply for directly-impacted (primary) worker adjustment assistance to be issued, each of the group eligibility requirements of section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign county of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (Increased imports) and (a)(2)(B)(II.B) (No shift in production to a foreign country) have not been met.

TA-W-52,827; Dana Glacier Vandervell, Bearings Div., Caldwell, OH

TA-W-52,807; Brubaker Tool Corp., a subsidiary of Talbott Holdings, Millersburg, PA

TA-W-52,741; Etto Tool and Machine Company, Inc., York, PA

TA-W-52,307; Ovalstrapping, Inc., Fort Payne, AL

TA-W-52,262; Sierra Pine, Ltd, Springfield, OR

TA-W-52,728; TRW Automotive, Body Controls Systems, NA, Rushford, MN

TA-W-52,410; Radio Frequency Services, Inc., Wilkesboro, NC

TA-W-52,659; Connex Pipe Systems, a subsidiary of The Shaw Group, Inc., Troutville, VA

TA-W-52,474; Kulicke and Soffa Industries, Austin, TX

TA-W-52,472; Arlee Home Fashions, Inc., Mexico, MO

TA-W-52,627; Flextronics Logistics, including leased workers of Wood Personnel, Mount Juliet, TN

TA-W-52,541; Alabama Metals, Div. of Amico Klemp, Liberty, MO

TA-W-52,980; Worcester Gear Works, Inc., Worcester, MA

TA-W-53,035; Supreme Bumper, Inc., Toledo, OH

TA-W-52,859; Prestige Products, Inc., Minneapolis, MN

TA-W-52,774; Weyerhauser Co., North Bend, OR

TA-W-52,814; Precision Tool and Design, Erie, PA

TA-W-52,913; Spectrulite Consortium, Inc., Madison, IL

TA-W-52,971; Goodyear Tire and Rubber Co., Engineered Products Div., Cartersville, GA

TA-W-52,560; Minnesota Ore Operations, div. of U.S. Steel Corp., Mt. Iron, MN

TA-W-52,779; Avondale Mills, Inc., Bon Air Plant, Sylacauga, AL

TA-W-52,734; Bendtec, Inc., Duluth, MN

TA-W-52,707; Parker Hannifin Corp., Hose Products Div., Green Camp, OH

TA-W-52,787; Western Technology Services International, Inc., a/k/a WOTCO, Inc., Casper, WY

TA-W-52,633; Highland Supply Corp., Highland, IL

TA-W-52,908; Coastal Apparel, LLC, Tabor City, NC

TA-W-52,561; Benchmark Electronics, Inc., Winona, MN

TA-W-52,521; Novell, Inc., Provo, UT

The investigation revealed that criteria (a) (2) (A) (I.C) (increased imports) and (a) (2) (B) (II.C) (has shifted production to a foreign country) have not been met.

TA-W-53,041; Tecumseh Products Co., Evergy Div., Paris, TN

The workers firm does not produce an article as required for certification under section 222 of the Trade Act of 1974.

TA-W-52,937; Zephyrhills Natural Spring Water, a subsidiary of Nestle Waters North America, Inc., Tamarac, FL

TA-W-52,960; Rosenbluth International, Inc., Kannapolis, NC

TA-W-52,911; International Paper, U.S. Container Div., Orange, TX

TA-W-52,839; General Electric Engine Services, a div. of the General Electric Company, McAllen, TX

TA-W-52,950; Alva Distributing, Inc., Albemarle, NC

TA-W-53,020; Intercontinental Hotels Group, Reservation Center, Cary, NC

TA-W-52,985; Canon USA, Inc., Semiconductor Div., San Antonio, TX

TA-W-52,828; AK Steel Corp., Rockport Works, Shipping, Receiving and Packaging Department, Rockport, IN

TA-W-52,850; Breed Safety Restraint Systems, El Paso, TX

TA-W-52,920; Sony Ericcson Mobile Communications, CDMA Development Group, Research Triangle Park, NC

TA-W-52,942; Innovative Marketing Strategies, Pittsburg, KS

TA-W-52,798; ADC Telecommunications, Inc., Eden Prairie, MN

TA-W-52,766; American Sussen Corp., a subsidiary of Spindelfabrik Suessen, Charlotte, NC

TA-W-52,663; Stanley Services, Henderson, NC

TA-W-52,643; Matsushita Avionics Systems Corp., Coppell, TX

TA-W-52,567; Agilent Technologies, Inc., Global Financial Accounting Div., Colorado Springs, CO

TA-W-52,642; Cyberware Laboratories, Inc., Engineering Department Monterey, CA

TA-W-52,958; Electronic Data Systems, GM/SPO, Flint, MI

TA-W-52,957; Stmicroelectronics, Inc., Raleigh, NC

TA-W-52,837; Sykes Enterprises, Inc., Klamath Falls, OR

TA-W-52,716; Uniprise, Dayton, OH

TA-W-53,079; Electronic Data Systems Corp., Troy, MI

TA-W-53,100; Computer Sciences Corp., Lehigh Valley Location, Bethlehem, PA

TA-W-53,162; Spherion Corp., Victoria, TX

TA-W-52,875; Lucent Technologies, Naperville, IL

TA-W-52,806; BMC Software, Inc., Houston, TX

TA-W-52,933; Ashland Specialty Chemical Co., a div. of Ashland, Inc., San Antonio, TX

TA-W-53,088; L.B. Smith, Inc., a subsidiary of Smith Land & Improvement Corp., Camp Hill, PA

TA-W-53,181; BIK Corp., d/b/a Nutec Bickley, Bensalem, PA

TA-W-53,182; RMH Teleservices, Inc., Wilkes-Barre, PA

TA-W-52,965; Agri Beef Co., Boise, ID

TA-W-53,016; Accenture, LLP, Anchorage, AK

TA-W-52,981; Oce Groupware Technology, Inc. (OGT), a subsidiary of Oce-USA Holding, Inc., a member of The Oce Group, a subsidiary of Oce N.V., Boise, ID

TA-W-52,751; Cliffs Mining Services Co., Ishpeming, MI

TA-W-52,802; Sappi Cloquet LLC, d/b/a Sappi Fine Paper North America, Cloquet, MN

TA-W-52,842; Wal-Mart Distribution Center, Laurens, SC

TA-W-52,975; Fall River Paper and Supply, New Bedford, MA

TA-W-52,987; SACM Textiles, Inc., Lyman, SC

TA-W-52,865; Washington Logistics, Inc., Olympia, WA

TA-W-52,671; Siebel Systems, Emeryville, CA

TA-W-52,709; Kana Software, Inc., Research and Development Department, Menlo Park, CA

TA-W-52,772; Baltimore Marine Industries, Inc., Baltimore, MD

TA-W-52,745; Erie Power Technologies, Inc., Erie, PA

TA-W-52,743; Hewlett Packard, Boise, ID

TA-W-52,711; AT&T Wireless Service, Inc., Livermore, Call Center, Livermore, CA

TA-W-52,918; Nationalwide Title Clearing, Inc., Glendale, CA

TA-W-52,800; GE Betz Regional Business Center, Grand Rapids, MI

TA-W-52,771; Central-PA Distribution & Warehouse, LLC, Reedsville, PA

The investigation revealed that criterion (a)(2)(A)(I.A) (no employment decline) has not been met.

TA-W-52,897; Alchemist, Inc., Bellingham, WA

TA-W-52,932; Fishing Vessel (F/V) Erika, Kodiak, AK

TA-W-52,884; Fishing Vessel (F/V) Confidence, Sitka, AK

TA-W-52,894; Fishing Vessel (F/V) Desperado, Wasilla, AK

TA-W-52,808; Maui Pineapple Co., Ltd, Honolua Plantation and Kahului Cannery, Kahului, HI

TA-W-52,912; Boise Cascade Corp., Yakima, WA

TA-W-52,585; Oregon Woodworking Co., Bend, OR

The investigation revealed that criteria (3) has not been met. The subject firm did not supply component parts accounting for at least 20 percent of production or sales to a firm (or subdivision) that employed a group of workers who received a certification of eligibility to apply for trade adjustment assistance.

TA-W-52,835; Southeastern Adhesives Co., Lenoir, NC

The investigation revealed that criteria (a) (2) (A) (I.B) (Sales or production, or both, did not decline) and (a) (2) (B) (II.B) (has shifted production to a county not under the free trade agreement with U.S.) have not been met.

TA-W-52,824; Givaudan Flavors Corp., a wholly owned subsidiary of Givaudan United States, Inc., Cincinnati, OH

TA-W-52,574; Waggoner/Parker Fisheries, Kenai, AK

TA-W-52,847; Medsource Technologies, Newton, MA

TA-W-52,789; Alkahn Labels, Inc., Jac-Arts Div., Cochran, GA

TA-W-52,730; Berwick Weaving, Inc., Berwick, PA

TA-W-52,677; Westinghouse Electric Co., Nuclear Services Div., Monroeville, PA

The investigation revealed that criteria (2) has not been met. The workers firm (or subdivision) is not a supplier or downstream producer to trade-affected companies

TA-W-52,810; Knernschield Manufacturing Co, Columbia, MO

TA-W-52,812; Metaldyne Sintered Components, a Part of the Engine Group of Metaldyne Corp., St, Marys, PA

TA-W-53,008; Martins Manufacturing, LLC, Kingsford, MI

TA-W-52,499; Pennsylvania Electric Coil, Ltd, Glassport, PA

TA-W-52,782; Progressive Processing, Inc., Elyria, OH

TA-W-52,705; Trojan Steel Co., Charleston, WV

TA-W-52,563; Sheet Metal Specialties, Inc., Waxhaw, NC

TA-W-52,674; ADM Milli8ng Co., “A” Mill, a subsidiary of Archer Daniels Midland Co., Minneapolis, MN

Affirmative Determinations for Worker Adjustment Assistance

The following certifications have been issued; the date following the company name and location of each determination references the impact date for all workers of such determination.

The following certifications have been issued. The requirements of (a) (2) (A) (increased imports) of section 222 have been met.

TA-W-52,778; Titan Tire, Brownsville, TX: August 28, 2002.

TA-W-52,811; RBX Industries, Inc., Conover, NC: September 2, 2002.

TA-W-52,836; A and A Consultants, Inc., El Paso, TX: September 5, 2002.

TA-W-52,856; Starbase Technologies, Inc., Pittsfield, MA: August 28, 2002.

TA-W-52,909; Dolly, Inc., including leased workers of CBS Personnel and Express Personnel, Tipp City, OH: August 28, 2002.

TA-W-52,930; Carolina Mills, Inc., Fiber Department, Maiden, NC: September 10, 2002.

TA-W-53,140; Grammerler U.S. Corp., Hanover Park, IL: September 29, 2002.

TA-W-52,938; Alliance Fiber Optic Products, Inc., Sunnyvale, CA: August 27, 2002.

TA-W-53,046; Quality Home Fashions, Inc., Richfield, NC: September 19, 2002.

TA-W-52,732; Agere Systems, Inc., Reading, PA: August 15, 2002.

TA-W-52,838; Vitco, LLC, Nappanee, IN: September 3, 2002.

TA-W-52,852; Aurora Metals Division, LLC, Montgomery, IL: September 3, 2002.

TA-W-53,024; Columbia Cable Co., a div. of Hood Cable Co., Columbia, MS: September 12, 2002.

TA-W-52,885; U.S. Tsubaki, Inc., Roller Chain Div., Holyoke, MA: September 18, 2002.

TA-W-52,953; Briggs Plumbing Products, Inc., a div. of Sayco/Briggs, Flora, IN: September 12, 2002.

TA-W-52,441 & A; Conn-Selmer, Inc., Selmer Main Street Div., Elkhart, IN and Selmer Plant 2 Div., Elkhart, IN: July 14, 2002.

TA-W-52,809; Janef, Inc. T/A Alperin Mayflower, Old Forge, PA: August 14, 2002.

TA-W-52,540; I.P.C. Acquisition, Corinth, MS: July 29, 2002.

TA-W-52,239; Titan Tire Corp., Des Moines, IA: June 24, 2002.

TA-W-52,506; K and S Interconnect, Inc., Dallas, TX: July 11, 2002.

TA-W-52,516; The John S. Tilley Ladders Co., Inc., Watervliet, NY: July 30, 2002.

TA-W-52,291; Sterling China Co., Wellsville, OH: June 19, 2002.

TA-W-52,496; Mann Edge Tool Co., Forge Div., Lewistown, PA: April 6, 2003.

TA-W-52,513; Del Monte Fresh Produce (HI), HCFO Div., Honolulu, HI: July 28, 2002.

TA-W-52,829; New Bedford Plastic Bag Co., New Bedford, MA: August 28, 2002.

TA-W-52,843; Lear Corp., Traverse City, MI: September 5, 2002.

TA-W-53,092; Jan-Sew Manufacturing, Crossville, TN: September 15, 2002.

TA-W-53,082; Dekko Heating Technologies, Inc., Plant 37, Appliance Div., Afton, IA: September 25, 2002.

TA-W-52,939; TRTL Enterprises, LLC, Monmouth, OR: August 22, 2002.

TA-W-52,764; New Castle Industries, Bimex Div., Wales, WI: August 3, 2002.

TA-W-52,799; Western Metal Specialty Co., a div. of Western Industries, Inc., Milwaukee, WI: September 5, 2002.

TA-W-52,587; Ramtex, Inc., Ramseur, NC: August 6, 2002.

TA-W-52,738; Vermont Tubbs, Inc., a div. of Carris Financial Corp., Brandon, VT: August 19, 2002.

TA-W-52,868; Badorf Shoe Co., Inc., Lititz, PA: September 9, 2002.

TA-W-52,788 & A, B; Springs Industries, Lancaster Plant, Lancaster, SC, White Plant, Fort Mill, SC and Grace Fabrication Plant, Lancaster, SC: August 28, 2002.

TA-W-52,790; Hanes Dye and Finishing Co., Winston-Salem, NC: September 4, 2002.

TA-W-52,681; Reuther Mold and Manufacturing Co., Inc., Cuyahoga Falls, OH: August 15, 2002.

TA-W-52,785; Gould Electronics, Inc., Materials Div., a subsidiary of Japan Energy Corp. (JEC), McConnelsville, OH: August 18, 2002.

TA-W-52,564; Prewett Mills Distribution Center, a div. of Prewett Hosiery Sales Corp., Fort Payne, AL, A; V.I. Prewett and Son, Inc., a div. of V.I. Prewett and Son, Fort Payne, AL, B; McKeehan Hosiery Mills, Inc., Fort Payne, AL, C; Johnson Hosiery Mills, Inc., Fort Payne, AL, D; Johnco Hosiery, Inc., Fort Payne, AL, E; Wee Socks, a div. of V.I. Prewett and Son, Fort Payne, AL, F; Cherokee Hosiery Mills, Inc., Fort Payne, AL and G; Lala Ellen Knitting, Fort Payne, AL: August 12, 2002.

TA-W-52,656; Agere Systems, Inc., Allentown, PA: August 15, 2002.

TA-W-52,833; The Owenby Co., Blairsville, GA: September 2, 2002.

TA-W-52,970; Miller Casket Co., Jermyn, PA: September 23, 2002.

TA-W-52,657; C and C Sportswear, Inc., Westmoreland, TN: August 21, 2002.

TA-W-52,667 & A; G.O. Carlson, Inc., Steel Div., Downingtwon, PA and Coatesville, PA: August 21, 2002.

TATA-W-52,685; Mead Westvaco, Greenville, GA: August 21, 2002.

TA-W-52,817; Spencer, Inc., Mt. Airy, NC: September 2, 2002.

TA-W-52,534; Advanced Cast Products, Inc., Meadville, PA: August 11, 2002.

TA-W-52,832; Apparel Ventures, Inc., South Gate, CA: September 8, 2002.

TA-W-52,735; Guardian Industries Corp., including leased workers of Spherion, Lewistown, PA: August 21, 2002.

TA-W-52,661; Gloves Cut and Sew, Inc., Albemarle, NC: August 18, 2002.

TA-W-52,684; PSC Metals, Inc., Headquarters, Cleveland, OH, A; Ashland, VA, B; Beaver Falls, PA, C; Burns Harbor, IN, D; Canton, OH, E; Gallatin, TN, F; Granite City, IL, G; St. Louis, MO, H; Nashville, TN, I; Philadelphia Office, Fort Washington, PA, J; Chattanooga, TN, K; Chicago Office, Arlington Heights, IL: August 19, 2002.

The following certifications have been issued. The requirements of (a)(2)(B) (shift in production) of section 222 have been met.

TA-W-52,795; Connector Service Corp., York Operations, including leased workers of Kelly Temps, JFC Temps, York, PA: August 25, 2002.

TA-W-52,803 & A; Mastercraft Fabrics LLC, Norwood Yarn Sales, Norwood, NC and Troy, NC: August 11, 2002.

TA-W-53,064; ATMI-Ecosys, Materials Lifecycle Solutions, Napa, CA: September 29, 2002.

TA-W-53,111; Liberty Cut and Sew, Stuart, VA: September 24, 2002.

TA-W-53,119; Orrco, Inc., Killbuck, OH: October 1, 2002.

TA-W-53,029; American Electric Lighting, a div. of Acuity Lighting Group, a subsidiary of Acuity Brands, Inc., Bainbridge, GA: September 15, 2002.

TA-W-52,921; Federal Mogul Corp., Powertrain Systems, including leased workers of Kelly Services, Palmetto Training and PDS Technical Services, Sumter, SC: September 10, 2002.

TA-W-52,936; Cook Communications Ministries, Elgin, IL: September 22, 2002.

TA-W-52,969 & A, B; Agilent Technologies, Inc., Computer Test Equipment Div. (CTE), Arlington Heights, CO, Liberty Lake, WA and Santa Rose, CA: September 16, 2002.

TA-W-52,949; Pacific Scientific, a subsidiary of Danaher Motion Group, including leased workers of Dickey Staffing Solutions, Rockford, IL: September 8, 2002.

TA-W-52,972; Exfo Gnubi Products Group, Inc., Addison, TX: September 9, 2002.

TA-W-52,752; TRW Automotive, Jackson, MI: August 25, 2002.

TA-W-53,095; Collins and Aikman Corp., North American Plastics, St. Joseph, MI: September 20, 2002.

TA-W-52,831; SPX Dock Products, Mechanical Dock Lever Div., Carrollton, TX: September 3, 2002.

TA-W-52,592; Cincinnati Advertising Products, LLC, Springdale, OH: August 5, 2002.

TA-W-52,929; Kaydon Corp., Sumter, SC: September 15, 2002.

TA-W-52,708; Carolina Pad and Paper, Charlotte, NC: August 25, 2002.

TA-W-52,731; Heraeus Quartztech, Inc., Fairfield, NJ: August 29, 2002.

TA-W-51,753; Agilent Technologies, Inc., Network Systems Test Div. (NSTD), Colorado Springs, CO., A; Englewood, CO, B; Loveland, CO, C; Boxborough, MA, D; Portsmouth, NH, E; Andover, MA, F; Richardson, TX, G; Santa Rosa, CA, H; Cypress, TX, I; Santa Clara, CA, J; Arlington Heights, IL: May 12, 2002.

TA-W-52,545; Bose Corp., Framingham, MA: July 25, 2002.

TA-W-52,517; Solutia, In., including leased workers from Kelly Services and Austin Industrial, Decatur, AL: August 5, 2002.

TA-W-53,004; Xerox Corp., Business Group Operations (BGO), Webster, NY: September 15, 2002.

TA-W-53,053; F. Ziegler Enterprises, Ltd, Fond du Lac, WI: September 25, 2002.

TA-W-52,906; Radioshack Corp., TDP Electronics Div., an operating Entity of North American Manufacturing, Swannanoa, NC: September 10, 2002.

TA-W-52,849 & A; Renaissance Mark, Baltimore, MD and Peoria, IL: September 4, 2002.

TA-W-53,060; G. Leblanc Corp., Case Co., Elkhorn, WI: September 23, 2002.

TA-W-52,775; Taylor Precision Products, Fletcher, NC: August 15, 2002.

TA-W-52,989; Standard Textile Co., Inc., Pridecraft Div., Manual Sewing Unit, Enterprise, AL: September 23, 2002.

TA-W-53,071; A & E Products Groups, LP, including leased workers of Manpower, Inc., American Personnelservice, One Source Staffing, Advanle Personnel, Adecco, Ringtown, PA: September 15, 2002.

TA-W-53,124; American Bag Corp., a div of Milliken & Co., Winfield, TN: September 17, 2002.

TA-W-52,903; Straits Steel and Wire, Ludington, MI: September 8, 2002.

TA-W-52,159; General Mills Operations, Inc., including leased workers of Masterson Personnel, Inc., Eden Prairie, MN: September 16, 2002.

TA-W-53,070; Home Products International, Inc., Eagan, MN: September 30, 2002.

TA-W-52,956; SEMCO, div. of Leggett and Platt Components Co., Ocala, FL: September 12, 2002.

TA-W-52,804; Garden State Tannin, Williamsport, MD: August 26, 2002.

TA-W-52,867; Pittsfield Woolen Yarns Co., Inc., Pittsfield, ME: September 4, 2002.

TA-W-52,765; Mirco Motion, Inc., Boulder, CO: September 3, 2002.

TA-W-52,696; Hilti North America, a div. of Hilti Corp., Plant 5, Tulsa, OK: August 26, 2002.

TA-W-52,747; Sligh Furniture Operating Co., d/b/a Sligh Furniture, Holland, MI: August 26, 2002.

TA-W-52,769; American Fiber and Finishing, Inc., Newberry, SC: September 5, 2002.

TA-W-52,977; Minnesota Rubber, Watertown, SD: September 11, 2002.

TA-W-52,916; Rite Industries, Inc., High Point, NC: September 4, 2002.

TA-W-52,784; JLG Omniquip, Inc., formerly Omniquip Textron, Inc., a subsidiary of JLG Industries, Port Washington, WI: September 5, 2002.

TA-W-52,522; Relax-R Corp., Milton, VT: August 6, 2002.

TA-W-52,753; Metal Powder Products Co., Coldwater, MI: August 29, 2002.

TA-W-52,668; Parker Hannifin Corp., Techseal Div., Snow Hill, NC: August 18, 2002.

TA-W-52,533; GECP Lighting, Mattoon Lamp Plant, Coiling Operations Div., Mattoon, IL: August 4, 2002.

TA-W-52,746; Plano Molding Co., Plano, IL: August 26, 2002.

TA-W-52,658; Tally Printer Corp., Kent, WA: August 19, 2002.

The following certification has been issued. The requirement of upstream supplier to a trade certified primary firm has been met.

TA-W-52,860; Olympic Tool and Engineering Co., Inc., Shelton, WA: August 26, 2002.

TA-W-52,888; Santoku Corp., Japan, Santoku America, Inc., Tolleson, AZ: July 7, 2002.

The following certification has been issued. The requirement of downstream producer to a trade certified primary firm has been met.

TA-W-53,024; Columbia Cable Co., a div. of Hood Cable Co., Columbia, MS: September 12, 2002.

Negative Determinations for Alternative Trade Adjustment Assistance

In order for the Division of Trade Adjustment Assistance to issued a certification of eligibility to apply for Alternative Trade Adjustment Assistance (ATAA) for older workers, the group eligibility requirements of section 246(a)(3)(A)(ii) of the Trade Act must be met.

In the following cases, it has been determined that the requirements of section 246(a)(3)(ii) have not been met for the reasons specified.

Since the workers are denied eligibility to apply for TAA, the workers cannot be certified eligible for ATAA.

TA-W-52,912; Boise Cascade Corp., Yakima, WA

TA-W-52,774; Weyerhauser Co., North Bend, OR

TA-W-52,814; Precision Tool and Design, Erie, PA

TA-W-52,847; Medsource Technologies, Newton, MA

TA-W-52,913; Spectrulite Consortium, Inc., Madison, IL

TA-W-52,933; Ashland Specialty Chemical Co., a div. of Ashland, Inc., San Antonio, TX

TA-W-52,971; Goodyear Tire and Rubber Co., Engineered Products Div., Cartersville, GA

TA-W-53,088; L.B. Smith, Inc., a subsidiary of Smith Land & Improvement Corp., Camp Hill, PA

TA-W-53,181; BIK Corp., d/b/a Nutec Bickley, Bensalem, PA

TA-W-53,182; RMH Teleservices, Inc., Wilkes-Barre, PA

TA-W-52,560; Minnesota Ore Operations, div. of U.S. Steel Corp., Mt. Iron, MN

TA-W-52,779; Avondale Mills, Inc., Bon Air Plant,Sylacauga, AL

TA-W-53,041; Tecumseh Products Co., Evergy Div., Paris, TN

TA-W-52,965; Agri Beef Co., Boise, ID

TA-W-53,008; Martins Manufacturing, LLC, Kingsford, MI

TA-W-53,016; Accenture, LLP, Anchorage, AK

TA-W-52,981; Oce Groupware Technology, Inc. (OGT), a subsidiary of Oce-USA Holding, Inc., a member of The Oce Group, a subsidiary of Oce N.V., Boise, ID

TA-W-52,734; Bendtec, Inc., Duluth, MN

TA-W-52,751; Cliffs Mining Services Co., Ishpeming, MI

TA-W-52,707; Parker Hannifin Corp., Hose Products Div., Green Camp, OH

TA-W-52,802; Sappi Cloquet LLC, d/b/a Sappi Paper North America, Cloquet, MN

TA-W-52,789; Alkahn Labels, Inc., Jac-Arts Div., Cochran, GA

TA-W-52,787; Western Technology Services International, Inc., a/k/a WOTCO, Inc., Casper, WY

TA-W-52,730; Berwick Weaving, Inc., Berwick, PA

TA-W-52,499; Pennsylvania Electric Coil, Ltd, Glassport, PA

TA-W-52,633; Highland Supply Corp., Highland, IL

TA-W-52,677; Westinghouse Electric Co., Nuclear Services Div., Monroeville, PA

TA-W-52,842; Wal-Mart Distribution Center, Laurens, SC

TA-W-52,908; Coastal Apparel, LLC, Tabor City, NC

TA-W-52,975; Fall River Paper and Supply, New Bedford, MA

TA-W-52,987; SACM Textiles, Inc., Lyman, SC

TA-W-52,865; Washington Logistics, Inc., Olympia, WA

TA-W-52,782; Progressive Processing, Inc., Elyria, OH

TA-W-52,705; Trojan Steel Co., Charleston, WV

TA-W-52,561; Benchmark Electronics, Inc., Winona, MN

TA-W-52,521; Novell, Inc., Provo, UT

TA-W-52,671; Siebel Systems, Emeryville, CA

TA-W-52,709; Kana Software, Inc., Research and Development Department, Menlo Park, CA

TA-W-52,772; Baltimore Marine Industries, Inc., Baltimore, MD

TA-W-52,585; Oregon Woodworking Co., Bend, OR

TA-W-52,563; Sheet Metal Specialties, Inc., Waxhaw, NC

TA-W-52,745; Erie Power Technologies, Inc., Erie, PA

TA-W-52,743; Hewlett Packard, Boise, ID

TA-W-52,711; AT&T Wireless Services, Inc., Livermore Call Center, Livermore, CA

TA-W-52,674; ADM Milling Co., “A” Mill, a subsidiary of Archer Daniels Midland Co., Minneapolis, MN

TA-W-52,918; Nationwide Title Clearing, Inc., Glendale, CA

TA-W-52,800; GE Betz Regional Business Center, Grand Rapids, MI

TA-W-52,771; Central-PA Distribution and Warehouse, LLC, Reedsville, PA

Affirmative Determinations for Alternative Trade Adjustment Assistance

In order for the Division of Trade Adjustment Assistance to issue a certification of eligibility to apply for Alternative Trade Adjustment Assistance (ATAA) for older workers, the group eligibility requirements of section 246(a)(3)(A)(ii) of the Trade Act must be met.

The following certifications have been issued; the date following the company name and location of each determination references the impact date for all workers of such determinations.

In the following cases, it has been determined that the requirements of section 246(a)(3)(ii) have been met.

I. Whether a significant number of workers in the workers' firm are 50 years of age or older.

II. Whether the workers in the workers' firm possess skills that are not easily transferable.

III. The competitive conditions within the workers' industry (i.e., conditions within the industry are adverse).

TA-W-53,004; Xerox Corp., Business Group Operations (BGO), Webster, NY: September 15, 2002.

TA-W-53,053; F. Ziegler Enterprises, Ltd, Fond du Lac, WI: September 25, 2002.

TA-W-52,906; Radioshack Corp., TDP Electronics Div., and Operating Entity of North American Manufacturing, Swannanoa, NC: September 10, 2002.

TA-W-52,849 & A; Renaissance Mark, Baltimore, MD and Peoria, IL: September 4, 2002.

TA-W-53,060; G. Leblanc Corp., Case Co., Elkhorn, WI: September 23, 2002.

TA-W-52,775; Taylor Precision Products, Fletcher, NC: August 15, 2002.

TA-W-52,829; New Bedford Plastic Bag Co., New Bedford, MA: August 28, 2002

TA-W-52,843; Lear Corp., Traverse City, MI: September 5, 2002.

TA-W-53,092; Jan-Sew Manufacturing, Crossville, TN: September 15, 2002

TA-W-52,989; Standard Textile Co., Inc., Pridecraft Div., Manual Sewing Unit, Enterprise, AL: September 23, 2002.

TA-W-53,071; A & E Products Group, LP, including leased workers of Manpower, Inc., American Personnelservice, One Source Staffing Advanle Personnel and Adecco, Ringtown, PA: September 15, 2002

TA-W-53,082; Dekko Heating Technologies, Inc., Plant 37, Appliance Div., Afton, IA: September 25, 2002.

TA-W-53,124; American Bag Corp., a div. of Milliken and Co., Winfield, TN: September 17, 2002.

TA-W-52,903; Straits Steel and Wire, Ludington, MI: September 8, 2002.

TA-W-52,939; TRTL Enterprises, LLC, Monmouth, OR: August 29, 2002.

TA-W-52,764; New Castle Industries, Bimex Div., Wales, WI: August 3, 2002.

TA-W-52,799; Western Metal Specialty Co., a div. of Western Industries, Inc., Milwaukee, WI: September 5, 2002.

TA-W-52,587; Ramtex, Inc., Ramseur, NC: August 6, 2002.

TA-W-53,159; General Mills Operations, Inc., including leased workers of Masterson Personnel, Inc., Eden Prairie, MN: September 16, 2002.

TA-W-53,070; Home Products International, Inc., Eagan, MN: September 30, 2002.

TA-W-52,956; SEMCO, div. of Leggett and Platt Components Co., Ocala, FL: September 12, 2002.

TA-W-52,738; Vermont Tubbs, Inc., a div. of Carris Financial Corp., Brandon, VT: August 19, 2002.

TA-W-52,804; Garden State Tanning, Williamsport, MD: August 26, 2002.

TA-W-52,867; Pittsfield Woolen Yarns Co., Inc., Pittsfield, ME: September 4, 2002.

TA-W-52,868; Badorf Shoe Co., Inc., Lititz, PA: September 9, 2002.

TA-W-52,765; Mirco Motion, Inc., Boulder, CO: September 3, 2002.

TA-W-52,788, A, B; Springs Industries, Lancaster Plant, Lancaster, SC, White Plant, Fort Mill, SC and Grace Fabrication Plant, Lancaster, SC: August 28, 2002.

TA-W-52,790; Hanes Dye and Finishing Co, Winston-Salem, NC: September 4, 2002.

TA-W-52,681; Reuther Mold and Manufacturing Co., Inc., Cuyahoga Falls, OH: August 15, 2002.

TA-W-52,696; Hilti North America, a div. of Hilti Corp., Plant 5, Tulsa, OK: August 26, 2002.

TA-W-52,747; Sligh Furniture Operating Co., d/b/a Sligh Furniture, Holland, MI: August 26, 2002.

TA-W-52,769; American Fiber and Finishing, Inc., Newberry, SC: September 5, 2002.

TA-W-52,785; Gould Electronics, Inc., Materials Div., a subsidiary of Japan Energy Corp (JEC), McConnelsville, OH: August 18, 2002.

TA-W-52,656; Agere Systems, Inc., Allentown, PA: August 15, 2002.

TA-W-52,833; The Owenby Co., Blairsville, GA: September 2, 2002.

TA-W-52,970; Miller Casket Co., Jermyn, PA: September 23, 2002.

TA-W-52,657; C & C Sportswear, Inc., Westmoreland, TN: August 23, 2002.

TA-W-52,667 & A; G.O. Carlson, Inc., Steel Div., Downingtown, PA and Coatesville, PA: August 21, 2002.

TA-W-52,564; Prewett Mills Distribution Center, a div. of Prewett Hosiery Sales Corp., Fort Payne, AL, A; V.I. Prewett & Son, Inc., a div. of V.I. Prewett & Son, Fort Payne, AL, B; McKeehan Hosiery Mill, Inc., Fort Payne, AL, C; Johnson Hosiery Mills, Inc., Fort Payne, AL, D; Johnco Hosiery, Inc., Fort Payne, AL, E; Wee Socks, a div. of V.I. Prewett & Son, Fort Payne, AL, F; Cherokee Hosiery Mills, Inc., Fort Payne, AL, G; Lala Ellen Knitting, Fort Payne, AL: August 12, 2002.

TA-W-52,685; Mead Westvaco, Greenville, GA: August 21, 2002.

TA-W-52,817; Spencer, Inc., Mt. Airy, NC: September 2, 2002.

TA-W-52,977; Minnesota Rubber, Watertown, SC: September 11, 2002.

TA-W-52,916; Rite Industries, Inc., High Point, NC: September 4, 2002.

TA-W-52,784; JLG Omniquip, Inc., formerly Omniquip Textron, Inc., a subsidiary of JLG Industries, Port Washington, WI: September 5, 2002.

TA-W-52,522; Relax-R-Corp., Milton, VT: August 6, 2002.

TA-W-52,753; Metal Powder Products Co., Coldwater, MI: August 29, 2002.

TA-W-52,684; PSC Metals, Inc., Headquarters, Cleveland, OH, A; Ashland, VA, B; Beaver Falls, PA, C; Burns Harbor, IN, D; Canton, OH, E; Gallatin, TN, F; Granite City, IL, G; St. Louis, MO, H; Nashville, TN, I; Philadelphia Office, Fort Washington, PA, J; Chattanooga, TN, K; Chicago Office, Arlington Heights, IL: August 19, 2002.

TA-W-52,534; Advanced Cast Products, Inc., Meadville,PA: August 11, 2002.

TA-W-52,668; Parker Hannifin Corp., Techseal Div., Snow Hill, NC: August 18, 2002.

TA-W-52,533; GECP Lighting, Mattoon Lamp Plant, Coiling Operations Div., Mattoon, IL: August 4, 2002.

TA-W-52,832; Apparel Ventures, Inc., South Gate, CA: September 8, 2002.

TA-W-52,735; Guardian Industries Corp., including leased workers of Spherion, Lewistown, PA: August 21, 2002.

TA-W-52,746; Plano Molding Co., Plano, IL: August 26, 2002.

TA-W-52,661; Gloves Cut and Sew, Inc., Albemarle, NC: August 18, 2002.

TA-W-52,658; Tally Printer Corp., Kent, WA: August 19, 2002.

I hereby certify that the aforementioned determinations were issued during the months of September and October. Copies of these determinations are available for inspection in Room C-5311, U.S. Department of Labor, 200 Constitution Avenue, NW., Washington, DC 20210 during normal business hours or will be mailed to persons who write to the above address.

Dated: October 29, 2003.
Timothy Sullivan,
Director, Division of Trade Adjustment Assistance.

[FR Doc. 03-27929 Filed 11-5-03; 8:45 am]

BILLING CODE 4510-30-P